DEPARTMENT OF HOUSING AND URBAN DEVELOPMENT

[Docket No. FR-5500-FA-18]

Announcement of Funding Awards, HOPE VI Main Street Grant Program, Fiscal Year (FY) 2011 and 2012

AGENCY: Office of the Assistant Secretary for Public and Indian Housing, HUD.

ACTION: Announcement of funding awards.

SUMMARY: In accordance with Section 102(a)(4)(C) of the Department of Housing and Urban Development Reform Act of 1989, this announcement notifies the public of funding decisions made by the Department in a competition for funding under the FY 2011 and FY 2012 (FY 2011-12) Notice of Funding Availability (NOFA) for the HOPE VI Main Street Program. This announcement contains the consolidated names and addresses of the award recipients under said NOFA.

FOR FURTHER INFORMATION CONTACT: For questions concerning the HOPE VI Main Street Program awards, contact Lawrence Gnessin, HOPE VI Main Street Program Manager, Office of Public and Indian Housing, Department of Housing and Urban Development, 451 7th Street SW., Washington, DC 2010, email lawrence.gnessin@hud.gov, and telephone (202) 402-2676. Hearing or speech-impaired individuals may access this number via TTY by calling the toll-free Federal Information Relay Service at (800) 877-8339.

SUPPLEMENTARY INFORMATION: The purpose of the HOPE VI Main Street program is to provide grants to small communities to assist in the rejuvenation of an historic or traditional central business district or “Main Street” area by replacing unused commercial space in buildings with affordable housing units. The objectives of the program are to redevelop Main Street areas; preserve historic or traditional architecture or design features in Main Street areas; enhance economic development efforts in Main Street areas; and provide affordable housing in Main Street areas.

The FY 2011-12 awards announced in this Notice were selected for funding in a NOFA competition posted on the http://www.grants.gov Web site on June 24, 2011. Applicants to this Notice were eligible for awards in both FY2011 and FY2012. Applications were scored and selected for funding based on the selection criteria in that notice.

The amount allotted to fund the HOPE VI Main Street grants were from appropriations for Section 24 of the Housing Act of 1937, as amended. The amount allotted for FY2011 was $500,000 and the amount allotted for FY 2012 was $500,000, for a total of $1 million. The HOPE VI Main Street grantee information is as follows:

City of El Dorado, KS, 220 East First Street, P.O. Box 792, El Dorado, KS 67042-2003 | $500,000
Town of Mayesville, SC, 24 South Main Street, P.O. Box 459, Mayesville, SC 29104-9520 | $500,000

In accordance with Section 102 (a)(4)(C) of the Department of Housing and Urban Development Reform Act of 1989 (103 Stat.1987, 42 U.S.C. 3545), the Department is publishing the names, addresses, and amounts of the 2 awards made under FY 2011-12 HOPE VI Main Street NOFA.

Sandra B. Henriquez,
Assistant Secretary for Public and Indian Housing.

[FR Doc. 2013-02665 Filed 2-5-13; 8:45 am]

BILLING CODE 4210-67-P